DEPARTMENT OF VETERANS AFFAIRS

Annual Pay Ranges for Physicians, Dentists, and Podiatrists of the Veterans Health Administration (VHA)

AGENCY: Department of Veterans Affairs

ACTION: Notice.

SUMMARY: VA is hereby giving notice of annual pay ranges, which is the sum of the base pay rate and market pay for VHA physicians, dentists, and podiatrists as prescribed by the Secretary for Department-wide applicability. These annual pay ranges are intended to enhance the flexibility of the Department to recruit, develop, and retain the most highly qualified providers to serve our Nation's Veterans and maintain a standard of excellence in the VA health care system.

DATES: Annual pay ranges are applicable February 16, 2020.

FOR FURTHER INFORMATION CONTACT: Leah Brady, HR Specialist, Human Resources Center of Expertise, VHA Workforce Management and Consulting Office (10A2A), Department of Veterans Affairs, 810 Vermont Avenue NW, Washington, DC 20420, (631) 514-9622. This is not a toll-free number.

SUPPLEMENTARY INFORMATION: Under 38 U.S.C. 7431(e)(1)(A), not less often than once every 2 years, the Secretary must prescribe for Department-wide applicability the minimum and maximum amounts of annual pay that may be paid to VHA physicians, dentists, and podiatrists. 38 U.S.C. 7431(e)(1)(B) allows the Secretary to prescribe separate minimum and maximum amounts of annual pay for a specialty or assignment. Pursuant to 38 U.S.C. 7431(e)(1)(C), amounts prescribed under paragraph 7431(e) shall be published in the Federal Register and shall not take effect until at least 60 days after date of publication.

In addition, under 38 U.S.C. 7431(e)(4), the total amount of compensation paid to a physician, dentist, or podiatrist under title 38 of the United States Code cannot exceed, in any year, the amount of annual compensation (excluding expenses) of the President. For the purposes of subparagraph 7431(e)(4), “the total amount of compensation” includes base pay, market pay, performance pay, recruitment, relocation, and retention incentives, incentive awards for performance and special contributions, and fee basis earnings.

Background

The “Department of Veterans Affairs Health Care Personnel Enhancement Act of 2004” (Public Law (Pub. L.) 108-445) was signed by the President on December 3, 2004. The major provisions of the law established a new pay system for VHA physicians and dentists consisting of base pay, market pay, and performance pay. While the base pay component is set by statute, market pay is intended to reflect the recruitment and retention needs for the specialty or assignment of a particular physician or dentist at a facility. Further, performance pay is intended to recognize the achievement of specific goals and performance objectives prescribed annually. These three components create a system of pay that is driven by both market indicators and employee performance, while recognizing employee tenure in VHA.

On April 8, 2019, the President signed Public Law 116-12, which amended 38 U.S.C. 7431 to include podiatrists within the physician and dentist pay system, authorizing podiatrists to receive base pay, market pay, and performance pay. With the amendment, podiatrists are also subject to the same limitations and requirements as physicians and dentists under 7431.

With regard to the Pay Tables for physicians, dentists, and podiatrists, there have been changes to the minimum and maximum amounts for Pay Tables 1, 2, and 5. However, the maximum amount for Pay Table 4 has remained unchanged since the 2016 publication in the Federal Register.

Discussion

VA identified and utilized salary survey data sources which most closely represent VA comparability in the areas of practice setting, employment environment, and hospital/health care system. The Association of American Medical Colleges, Hospital and Healthcare Compensation Service, Sullivan, Cotter, and Associates, Medical Group Management Association, and the Survey of Dental Practice published by the American Dental Association were collectively utilized as benchmarks from which to prescribe annual pay ranges across the scope of assignments/specialties within the Department. While aggregating the data, a preponderance of weight was given to those surveys which most directly resembled the environment of the Department.

In constructing annual pay ranges to accommodate the more than 40 specialties that currently exist in the VA system, VA continued the practice of grouping specialties into consolidated pay ranges. This allows VA to use multiple sources that yield a high number of salary data which helps to minimize disparities and aberrations that may surface from data involving smaller numbers for comparison and from sample change from year to year. Thus, by aggregating multiple survey sources into like groupings, greater confidence exists that the average compensation reported is truly representative. In addition, aggregation of data provides for a large enough sample size and provides pay ranges with maximum flexibility for pay setting for VHA physicians, dentists, and podiatrists.

In developing the annual pay ranges, a few distinctive principles were factored into the compensation analysis of the data. The first principle is to ensure that both the minimum and maximum salary is at a level that accommodates special employment situations, from fellowships and medical research career development awards to Nobel Laureates, high-cost areas, and internationally renowned clinicians. The second principle is to provide ranges large enough to accommodate career progression, geographic differences, sub-specialization, and other special factors.

Clinical specialties were reviewed against available, relevant private sector data. The specialties are grouped into four clinical pay ranges that reflect comparable complexity in salary, recruitment, and retention considerations. The Steering Committee recommended realigning Deputy Network Chief Medical Officer from Pay Table 5 Tier 3 to Pay Table 5 Tier 4 to distinguish this assignment as an advanced clinical and leadership role at the Network level.

The Steering Committee also recommended realigning Chief of Staff from Pay Table 5 Tier 4 to Pay Table 5 Tier 3 for complexity level 3 facilities and from Pay Table 5 Tier 3 to Pay Table 5 Tier 2 for complexity level 2 facilities to distinguish this assignment as an advanced clinical and leadership role at the Medical Center level.

Tier level | Minimum | Maximum
Pay Table 1—Clinical Specialty
Tier 1 | $104,843 | $243,000
Tier 2 | 110,000 | 252,720
Tier 3 | 120,000 | 280,340

Pay Table 1—Covered Clinical Specialties
Endocrinology
Endodontics
General Practice—Dentistry
Geriatrics
Infectious Diseases
Internal Medicine/Primary Care/Family Practice
Palliative Care
Periodontics
Podiatry (General)
Podiatry (Surgery—Forefoot, Rearfoot/Ankle, Advanced Rearfoot/Ankle)
Preventive Medicine
Prosthodontics
Rheumatology
All other specialties or assignments not requiring a specific specialty training or certification

Tier level | Minimum | Maximum
Pay Table 2—Clinical Specialty
Tier 1 | $104,843 | $282,480
Tier 2 | 115,000 | 306,600
Tier 3 | 130,000 | 336,000

Pay Table 2—Covered Clinical Specialties
Allergy and Immunology
Hospitalist
Nephrology
Neurology
Pathology
Physical Medicine and Rehabilitation/Spinal Cord Injury
Psychiatry

Tier level | Minimum | Maximum
Pay Table 5—Chief of Staff and Network Chief Medical Officers
Tier 1 | $150,000 | $350,000
Tier 2 | 147,000 | 325,000
Tier 3 | 145,000 | 300,000
Tier 4 | 140,000 | 285,000

Pay Table 5—Covered Assignments

VHA Chiefs of Staff and Network Chief Medical Officers Tier assignments for Chiefs of Staff are based on published facility complexity level. Tier 1—Network Chief Medical Officer and Chief of Staff—Complexity Levels 1a and 1b. Tier 2—Chief of Staff—Complexity Levels 1c and 2. Tier 3—Chief of Staff—Complexity Level 3 and facilities with no designation level. Tier 4—Deputy Network Chief Medical Officer and Deputy Chief of Staff.

Signing Authority

The Secretary of Veterans Affairs, or designee, approved this document and authorized the undersigned to sign and submit the document to the Office of the Federal Register for publication electronically as an official document of the Department of Veterans Affairs. Pamela Powers, Chief of Staff, Department of Veterans Affairs, approved this document on December 2, 2019, for publication.

Jeffrey M. Martin,
Assistant Director, Office of Regulation Policy & Management, Office of the Secretary, Department of Veterans Affairs.

[FR Doc. 2019-26435 Filed 12-6-19; 8:45 am]

BILLING CODE 8320-01-P